DEPARTMENT OF ENERGY

Federal Energy Regulatory Commission

[Docket No. RP19-389-000]

BP Energy Company, Equinor Natural Gas LLC, Shell NA LNG LLC, v. Dominion Energy Cove Point LNG, LP

Notice of Complaint

Take notice that on December 4, 2018, pursuant to Rules 206 and 212 of the Federal Energy Regulatory Commission's (Commission) Rules of Practice and Procedure, 18 CFR 385.206 and 385.212 (2018), and section 5 of the Natural Gas Act (NGA), 15 U.S.C. 717d(a) (2012), BP Energy Company, Equinor Natural Gas LLC and

Shell NA LNG LLC, (collectively, Complainants) filed a formal complaint against Dominion Energy Cove Point LNG, LP (Respondent), alleging that Respondent violated, inter alia, the provisions of its FERC Gas Tariff, sections 3(e)(4), 4(a), 4(b), and 4(d) of the NGA, and section 154.207 of the Commission's regulations, all as more fully explained in the complaint.

The Complainants certify that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on December 24, 2018.

Dated: December 6, 2018.
Nathaniel J. Davis, Sr.,
Deputy Secretary.

[FR Doc. 2018-26893 Filed 12-11-18; 8:45 am]

BILLING CODE 6717-01-P